FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

FCC Logistics Inc. dba GOF Logistics Group, 10722 S. La Cienega Blvd., Inglewood, CA 90304. Officers: Tan-Ing Chou (aka Tammy), Secretary, (Qualifying Individual); Zeng Chun Guan, CEO.

Sinotrans Express Inc., 10338 Rush Street, S. El Monte, CA 91733. Officers: Daniel D.L. Au, Vice President, (Qualifying Individual); Kaiyang Lin, President.

Ocean Air Freight International, Inc., 3921 NW 144th Street, Bldg. 66, Opalooka, FL 33054. Officers: Paul Kupke, Vice President, (Qualifying Individual); Greg Cole, President.

Gift and Parcel, Inc. dba FP Express; Pesocard, 4700 Mission Street, San Francisco, CA 94112. Officers: Fernando M. Banaria, Jr., President, (Qualifying Individual); Steven Foo, CEO.

American Logistics Intermodal, Inc., 320 Pine Avenue, Suite 503, Long Beach, CA 90802. Officers: Romika K. Singh, Vice President, (Qualifying Individual); Mian S. Waheed, CEO.

Non-Vessel Operating Common Carrier and Ocean Freight Forwarder Transportation Intermediary Applicants

Re Transportation, Inc. dba Re Trans, 7305 Mont Blanc, Germantown, TN 38138. Officer: David Wedaman, President, (Qualifying Individual).

Power Link Logistic Inc., 1751 Deerwood Drive, Fullerton, CA 92833. Officers: Polly Yang, General Manager, (Qualifying Individual); Pamela Yang, CEO.

Pactrans Air & Sea Inc., 950 Thornedale Avenue, Elk Grove Village, IL 60007. Officers: Kitty Pon, Vice President, (Qualifying Individual); Alexander Pon, President.

Dated: August 9, 2002.
Bryant L. VanBrakle,
Secretary.

[FR Doc. 02-20666 Filed 8-13-02; 8:45 am]

BILLING CODE 6730-01-P